DEPARTMENT OF HEALTH AND HUMAN SERVICES

Office of the Secretary

[Document Identifier: HHS-OS-0990-new-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before December 18, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Data Element Survey for the Title X Family Planning Annual Report (FPAR) 2.0

Abstract: The Office of Population Affairs (OPA) within the Office of the Assistant Secretary for Health (OASH), Office of Family Planning (OFP), and this office is requesting Office of Management and Budget (OMB) approval on a new data collection form (data element survey). This survey is intended to collect feedback from the Title X network regarding feasibility, alignment, and potential workflow issues related to encounter-level data collection and the proposed new FPAR 2.0 data elements (the data dictionary). This voluntary form will occur at most annually and allow the Title X network to offer feedback and guidance that will inform OPA's development of FPAR 2.0. OPA will solicit feedback from Title X agencies to better inform the 2.0 data dictionary, and proposes to make this data collection form available for up to 3 years so that OPA can accept feedback from the network regarding any version changes that might be made to the dictionary.

Likely Respondents: Title X Grantees, Sub recipients, and Service Sites.

Total Estimated Annualized Burden—Hours
Form name | Number of respondents | Number of responses per respondent | Average burden per response (in hours) | Total burden hours
Data Element Survey | 818 | 1 | 30/60 | 409
Total |  |  | 30/60 | 409

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-27220 Filed 11-17-14; 8:45 am]

BILLING CODE 4150-05-P